DEPARTMENT OF THE INTERIOR

National Park Service

[NPS-MWR-CR-11394; PPMWUGRR00.PPMRSCR1Y.CU0000]

60-Day Notice of Intention To Request Clearance of Collection of Information; Opportunity for Public Comment

AGENCY: National Park Service, Interior.

ACTION: Notice; request for comments.

SUMMARY: We (National Park Service, NPS) will ask the Office of Management and Budget (OMB) to approve the information collection (IC) described below. As required by the Paperwork Reduction Act of 1995 and as part of our continuing efforts to reduce paperwork and respondent burden, we invite the general public and other Federal agencies to take this opportunity to comment on this IC. This IC is scheduled to expire on May 31, 2013. We may not conduct or sponsor and a person is not required to respond to a collection of information unless it displays a valid OMB control number.

DATES: To ensure we are able to consider your comments, we must receive them on or before January 15, 2013.

ADDRESSES: Please send your comments on the IC to Madonna L. Baucum, Information Collection Clearance Officer, National Park Service, 1201 I Street NW., MS 1242, Washington, DC 20005 (mail); or madonna_baucum@nps.gov (email). Please reference OMB Control Number “1024-0232, National Park Service National Underground Railroad Network to Freedom” in the subject line of your comments.

FOR FURTHER INFORMATION CONTACT: Diane Miller, National Manager, National Underground Railroad Network to Freedom Program, National Park Service, Midwest Regional Office, 601 Riverfront Dr., Omaha, Nebraska 68102; via fax at (402) 661-1982; or via email at diane_miller@nps.gov.

SUPPLEMENTARY INFORMATION:

I. Abstract

Public Law 105-23, National Underground Railroad Network to Freedom Act of 1998, requires the establishment of a network justifiably associated with the Underground Railroad. The Network is designed to be a collection of sites, facilities, and programs, both governmental and non-governmental, around the United States with a verifiable association with the historic Underground Railroad movement. The National Park Service National Underground Railroad Network to Freedom application form is completed by Federal agencies, State Historic Preservation Offices, other State agencies, local governments, organizations, and individuals. We use the information collected to determine eligibility to become part of the Network. We are requesting a 3-year term of approval for this information collection activity.

Respondents must verify associations and characteristics through descriptive texts that are the result of historical research. Evaluations are based on subjective analysis of the information provided, which often includes copies of rare documents and photographs. Much of the information is submitted in electronic format, but, at the present time, there is no automated way to gather all of the required information.

II. Data

OMB Control Number: 1024-0232.

Title: National Park Service National Underground Railroad Network to Freedom.

Form(s): National Park Service National Underground Railroad Network to Freedom application form.

Type of Request: Extension of a currently approved collection of information.

Description of Respondents: State, tribal, and local governments; Federal agencies; businesses; non-profit organizations; and individuals.

Respondent's Obligation: Voluntary.

Frequency of Collection: On occasion.

Estimated Number of Annual Respondents: 45.

Completion Time per Response: 25 hours.

Estimated Total Annual Burden Hours: 1,125.

Estimated Annual Nonhour Burden Cost: None.

III. Comments

We invite comments concerning this information collection on:

• Whether or not the collection of information is necessary, including whether or not the information will have practical utility;

• The accuracy of the burden for this collection of information;

• Ways to enhance the quality, utility, and clarity of the information to be collected; and

• Ways to minimize the burden to respondents, including use of automated information techniques or other forms of information technology.

Please note that the comments submitted in response to this notice are a matter of public record. We will include or summarize each comment in our request to OMB to approve this IC. Before including your address, phone number, email address, or other personal identifying information in your comment, you should be aware that your entire comment, including your personal identifying information, may be made publicly available at any time. While you can ask us in your comment to withhold your personal identifying information from public review, we cannot guarantee that it will be done.

Dated: November 6, 2012.
Madonna L. Baucum,
Information Collection Clearance Officer, National Park Service.

[FR Doc. 2012-27829 Filed 11-15-12; 8:45 am]

BILLING CODE 4312-EH-P